DEPARTMENT OF TRANSPORTATION

Federal Aviation Administration

Notice of Availability of Record of Decision (ROD) for the Final Environmental Impact Statement, Washington Dulles International Airport, Chantilly, VA

AGENCY: Federal Aviation Administration (FAA), DOT.

ACTION: Notice of record of decision.

SUMMARY: The Federal Aviation Administration (FAA) is issuing this notice to advise the public that it has issued a Record of Decision (ROD) for the Final Environmental Impact Statement (FEIS) that evaluated proposed New Runways and Associated Development at Washington Dulles International Airport, Chantilly, VA.

SUPPLEMENTARY INFORMATION: The Federal Aviation Administration (FAA) has completed and issued its Record of Decision (ROD) for proposed New Runways and Associated Development at Washington Dulles International Airport, Chantilly, VA. FAA had published its Final Environmental Impact Statement (FEIS) containing a Final Air Quality General Conformity Determination (FGCD), (Preliminary) Final Section 106 Historic Resources Report and a Virginia Coastal Zone Consistency Determination on August 11, 2005. The U.S. Army Corps of Engineers (USACE) was a cooperating Federal agency, having jurisdiction by law because the proposed project has the potential for significant wetland impacts.

The FEIS presented the purpose and need for the proposed project, a comprehensive analysis of the alternatives to the proposed project, including the No-Action Alternative and potential environmental impacts associated with the proposed development of two new air carrier runways and related improvements at IAD. The FEIS also identified the FAA's Preferred Alternative (Build Alternative 3) and described the proposed Mitigation Program for the Preferred Alternative that will be implemented by the Metropolitan Washington Airports Authority (MWAA) to off-set unavoidable environmental impacts.

In accordance with section 176(c) of the Federal Clean Air Act, FAA has assessed whether the air emissions that would result from FAA's action in approving the proposed projects conform to the State Implementation Plan (SIP). The results of this assessment indicated that the Preferred Alternative has demonstrated conformity with the SIP. This assessment is contained in the Final Air Quality General Conformity Determination in Appendix G-5 of the FEIS.

Pursuant to the National Historic Preservation Act of 1966, as amended, including Executive Order 11593, Protection and Enhancement of the Cultural Environment, FAA assessed whether its action in approving the proposed project would result in adverse impacts to Historic and Archaeological Resources. The results of this assessment indicated that the Preferred Alternative would result in impacts to resources that are listed in, and eligible for, listing in the National Register of Historic Places. FAA has consulted with the Virginia State Historic Preservation Office (SHPO) concerning the effects assessment and has executed a project specific Memorandum of Agreement (MOA) that identifies treatment of the affected resources. The executed MOA is contained in Appendix B of the ROD.

In accordance with the Coastal Zone Management Act of 1972, as amended, the Preferred Alternative was evaluated for consistency with the Virginia Coastal Program. FAA's evaluation determined that the Preferred Alternative is consistent with the Virginia Coastal Zone Program. The Federal Consistency Determination is contained in Appendix C-3 of the FEIS.

In accordance with Executive Order 11988, Floodplain Management and Order DOT 5650.2, Floodplain Management and Protection, FAA evaluated whether the Preferred Alternative would impact base floodplain based on a 100-year flood. The results of this assessment indicated that the Preferred Alternative would result in unavoidable impacts to the base floodplain and that all available measures to minimize harm will be included in the project design. FAA's analysis has also determined that the base floodplain encroachment with the proposed mitigation does not constitute a “significant” encroachment. Measures to mitigate base floodplain impact are included in the FEIS. The public was informed of the base floodplain encroachment through FAA's ongoing Public Involvement Program.

Copies of the ROD are available for review by appointment only at the following FAA/MWAA Offices. Please call to make arrangements for viewing: Federal Aviation Administration, Washington Airports District Office, 23723 Air Freight Lane, Suite 210, Dulles, VA, (703) 661-1358; Washington Dulles International Airport, Airport Managers Office, Main Terminal Baggage Claim Level, Dulles, VA, (703) 572-2710. Additionally, copies of the ROD may be viewed during regular business hours at the following locations:

1. Centreville Regional Library, 14200 St. Germaine Drive, Centreville, VA.

2. Chantilly Regional Library, 4000 Stringfellow Road, Chantilly, VA.

3. Great Falls Library, 9830 Georgetown Pike, Great Falls, VA.

4. Herndon Fortnightly Library, 768 Center Street, Herndon, VA.

5. Reston Regional Library, 11925 Bowman Towne Drive, Reston, VA.

6. Fairfax City Regional Library, 3915 Chain Bridge Road, Fairfax, VA.

7. Ashburn Library, 43316 Hay Road, Ashburn, VA.

8. Rust Library, 380 Old Waterford Road, Leesburg, VA.

9. Middleburg Library, 101 Reed Street, Middleburg, VA.

10. Purcellville Library, 220 E. Main Street, Purcellville, VA.

11. Sterling Library, 120 Enterprise Street, Sterling, VA.

12. Eastern Loudoun Regional Library, 21030 Whitfield Place, Sterling, VA.

13. Tysons-Pimmit Regional Library, 7584 Leesburg Pike, Falls Church, VA.

The ROD may also be viewed at Metropolitan Washington Airports Authority's (MWAA) Dulles Airport Web site: http://www.mwaa.com/dulles/EnvironmentalStudies/RunwaysEIS.htm.

FOR FURTHER INFORMATION CONTACT: Joseph Delia, Project Manager, Federal Aviation Administration, Washington Airports District Office, 23723 Air Freight Lane, Suite 210, Dulles, VA. Mr. Delia can be contacted at (703) 661-1358.

Issued in Washington, DC on October 17, 2005.
Terry Page,
Manager, Washington Airports District Office, Federal Aviation Administration.

[FR Doc. 05-21032 Filed 10-19-05; 8:45am]

BILLING CODE 4910-13-M